DEPARTMENT OF TRANSPORTATION

National Highway Traffic Safety Administration

Reports, Forms and Record Keeping Requirements, Agency Information Collection Activity Under OMB Review

AGENCY: National Highway Traffic Safety Administration (NHTSA), DOT.

ACTION: Federal Register notice.

SUMMARY: In compliance with the Paperwork Reduction Act of 1995 (44 U.S.C. 3501 et seq.), this notice announces that the Information Collection Request (ICR) abstracted below has been forwarded to the Office of Management and Budget (OMB) for review and comment. The ICR describes the nature of the information collection and its expected burden. The Federal Register Notice, with a 60-day comment period, was published on March 3, 2004 [69 FR 10097].

DATES: OMB approval has been requested by August 12, 2004.

FOR FURTHER INFORMATION CONTACT: Henrietta L. Spinner at the National Highway Traffic Safety Administration (NHTSA), Office of International Policy, Fuel Economy and Consumer Program (NVS-130), (202) 366-4802, 400 Seventh Street, SW., Washington, DC 20590.

SUPPLEMENTARY INFORMATION: Agency: National Highway Traffic Safety Administration.

Title: 49 CFR 537, Automotive Fuel Economy Reports.

OMB Control Number: 2127-0019.

Type of Request: Extension of a currently approved collection.

Abstract: Section 32907 of Chapter 329 of Title 49 of the United States Code requires each automobile manufacturer (other than those low volume manufacturers which were granted an alternative fuel economy standard under section 32902 (d)) to submit semi-annual reports to the agency relating to that manufacturers' efforts to comply with average fuel economy standards. One report is due during the 30-day period preceding the beginning of each model year (the “pre-model year report”) and the other is due during the 30-day period beginning on the 180th day of the model year (the “mid-model year report”).

Section 32907 (a)(1) of Chapter 329 provides that each report must contain a statement as to whether the manufacturer will comply with average fuel economy standards for that year, a plan describing the steps the manufacturer took or will take to comply with the standards, and any other information the agency may require. Whenever a manufacturer determines that a plan it has submitted in one of its reports is no longer adequate to assure compliance, it must submit a revised plan.

Affected Public: Business or other for profit organizations.

Estimated Total Annual Burden: 1, 957 hours.

Estimated Number of Respondents: 18.

ADDRESSES: Send comments, within 30 days, to the Office of Information and Regulatory Affairs, Office of Management and Budget, 725 17th Street, NW, Washington, DC 20503, Attention: NHTSA Desk Officer.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology. A comment to OMB is most effective, if OMB receives it prior to August 12, 2004.

Issued on: July 2, 2004.
Stephen R. Kratzke,
Associate Administrator for Rulemaking.

[FR Doc. 04-15850 Filed 7-12-04; 8:45 am]

BILLING CODE 4910-59-P